DEPARTMENT OF STATE

[Public Notice: 7163]

U.S. Department of State Advisory Committee on Private International Law: Notice of Annual Meeting

The Department of State's Advisory Committee on Private International Law (ACPIL) will hold its annual meeting on developments in private international law on Thursday, October 28 and Friday, October 29, 2010 in Washington, DC. The meeting will be held at the Gewirz Student Center, Georgetown University Law Center, 600 New Jersey Avenue, NW., Washington, DC 20001. The program is scheduled to run from 9:30 a.m. to 5 p.m. on Thursday and from 9 a.m. to 3 p.m. on Friday.

Time permitting, the discussion is expected to focus on developments in a number of areas, e.g., federalism issues in implementing private international law conventions (including the Hague Convention on Choice of Court Agreements, the UNCITRAL E-Commerce and Letter of Credit Conventions, and others); globalization and cross-border corporate insolvency; international arbitration; investment securities, market stability and treaty law; international family law; private international law initiatives in the OAS; on-line dispute resolution; and treaty-based finance law. We encourage active participation by all those attending.

Documents on these subjects are available at http://www.hcch.net; http://www.uncitral.org; http://www.unidroit.org; http://www.oas.org, and http://www.nccusl.org. We may, by e-mail, supplement those with additional documents.

Please advise as early as possible if you plan to attend. The meeting is open to the public up to the capacity of the conference facility, and space will be reserved on a first come, first served basis. Persons who wish to have their views considered are encouraged, but not required, to submit written comments in advance. Those who are unable to attend are also encouraged to submit written views. Comments should be sent electronically to smeltzertk@state.gov. Those planning to attend should provide name, affiliation and contact information to Trish Smeltzer at 703-812-2382 or Niesha Toms at 703-812-2353, or by e-mail to tomsnn@state.gov. You may also use those contacts to obtain additional information. A member of the public needing reasonable accommodation should advise those same contacts not later than October 21st. Requests made after that date will be considered, but might not be able to be fulfilled.

September 15, 2010.
Keith Loken,
Assistant Legal Adviser, Office of Private International Law, Office of the Legal Adviser, Department of State.

[FR Doc. 2010-23978 Filed 9-23-10; 8:45 am]

BILLING CODE 4710-08-P